DEPARTMENT OF THE INTERIOR

Bureau of Land Management

[LLOR9360000.L51040000.FI0000-09; HAG-09-0005; WAOR58397, WAOR58398, WAOR58399, WAOR58400]

Notice of Proposed Reinstatement of Terminated Oil and Gas Leases WAOR58397, WAOR58398, WAOR58399, and WAOR58400; Washington

AGENCY: Bureau of Land Management, Interior.

ACTION: Notice.

SUMMARY: Under the provisions of 30 U.S.C. 188(d) and (e), and 43 CFR 3108.2-3(a) and (b)(1), the Bureau of Land Management (BLM) received a petition for reinstatement from Delta Petroleum Corporation for noncompetitive oil and gas leases WAOR58397, WAOR58398, WAOR58399, and WAOR58400, for lands in Franklin County, Washington. The petition was filed on time and was accompanied by all the rentals due since the date the leases terminated under the law.

SUPPLEMENTARY INFORMATION: The lessee, Delta Petroleum Corporation, has agreed to the amended lease terms for rentals and royalties at rates of $5.00 per acre or fraction thereof, per year and 16-2/3 percent, respectively. The lessee has paid the required $500 administrative fee and $163 to reimburse the Bureau of Land Management for the cost of this Federal Register notice.

The lessee has met all the requirements for reinstatement of the lease as set out in Section 31(d) and (e) of the Mineral Leasing Act of 1920 (30 U.S.C. 188). Therefore, the Bureau of Land Management is proposing to reinstate leases WAOR58397, WAOR58398, WAOR58399, and WAOR58400, effective April 1, 2008, subject to the original terms and conditions of the leases and the increased rental and royalty rates cited above. No other valid lease has been issued affecting the lands.

FOR FURTHER INFORMATION CONTACT: Michael Reed, Land Law Examiner, Minerals Section, BLM Oregon/Washington State Office, PO Box 2965, Portland, Oregon 97208, (503) 808-6282, Mike_Reed@or.blm.gov.

Dated: October 7, 2008.
Christopher B. DeWitt,
Chief, Minerals Section.

[FR Doc. E8-24255 Filed 10-10-08; 8:45 am]

BILLING CODE 4310-33-P